DEPARTMENT OF TRANSPORTATION

Maritime Administration

[Docket Number: MARAD-2002-12371]

Requested Administrative Waiver of the Coastwise Trade Laws

AGENCY: Maritime Administration, Department of Transportation.

ACTION: Invitation for public comments on a requested administrative waiver of the Coastwise Trade Laws for the vessel FAIR TRADES.

SUMMARY: As authorized by Pub. L. 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR part 388 (65 FR 6905; February 11, 2000) that the issuance of the waiver will have an unduly adverse effect on a U.S.-vessel builder or a business that uses U.S.-flag vessels, a waiver will not be granted.

DATES: Submit comments on or before June 28, 2002.

ADDRESSES: Comments should refer to docket number MARAD-2002-12371. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW, Washington, DC 20590. Telephone 202-366-2307.

SUPPLEMENTARY INFORMATION: Title V of Pub. L. 105-383 provides authority to the Secretary of Transportation to administratively waive the U.S.-build requirements of the Jones Act, and other statutes, for small commercial passenger vessels (no more than 12 passengers). This authority has been delegated to the Maritime Administration per 49 CFR § 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR part 388.

Vessel Proposed for Waiver of the U.S.-Build Requirement

(1) Name of vessel and owner for which waiver is requested. Name of vessel: FAIR TRADES. Owner: Michael and Frances Plitman.

(2) Size, capacity and tonnage of vessel. According to the applicant: “FAIR TRADES is 50 feet long, and has a Gross tonnage of 35 tons as calculated pursuant to 46 U.S.C. 14502.”

(3) Intended use for vessel, including geographic region of intended operation and trade. According to the applicant: We intend to operate FAIR TRADES on day and overnight charter trips along the Gulf Coast for up to 12 passengers. FAIR TRADES is now berthed at St. Andrews marina in Panama City and most charters will operate within 50 nautical miles of the entrance to St. Andrews Bay.”

(4) Date and Place of construction and (if applicable) rebuilding. Date of construction: 1990. Place of construction: France.

(5) A statement on the impact this waiver will have on other commercial passenger vessel operators. According to the applicant: “Approval of this waiver will have minimal impact on other commercial passenger vessel operators. FAIR TRADES will not be competing with the large majority of coastwise operators that offer daily excursions. We have absolutely no interest in providing hourly harbor tour type services. Rates for chartering FAIR TRADES will be based on comparable market prices for similar vessels regardless of place of construction, most of which are operated in “bareboat” charter. There will be no attempt to undercut competitors; in fact, we are seeking to make a profit based on quality of service—not volume. Therefore our rates will be comparable to other high end charters. There are many foreign-built and U.S.-built boats, including French-built BENETEAUS, that operate legally in the Bareboat trade. It is these types of vessels with which we will really compete and their owners are not truly in the commercial service—they are individuals looking to offset the high costs of boat ownership.”

(6) A statement on the impact this waiver will have on U.S. shipyards. According to the applicant: “Any impact on domestic shipbuilders should be positive. In fact, successful operations with FAIR TRADES may stimulate interest among U.S. builders to design and construct similar type vessels. Since we purchased FAIR TRADES, we have spent over $75,000 for U.S. manufactured equipment to upgrade her thereby helping the local marine industry. All repair work contracted for has been performed by U.S. yards. It should be evident that FAIR TRADES is, in fact, stimulating many related marine industries.”

Dated: May 22, 2002.
By order of the Maritime Administrator.
Joel C. Richard,
Secretary, Maritime Administration.

[FR Doc. 02-13362 Filed 5-28-02; 8:45 am]

BILLING CODE 4910-81-P